DEPARTMENT OF AGRICULTURE

Food and Nutrition Service

7 CFR Part 210

[FNS-2011-0025]

RIN 0584-AE15

Certification of Compliance With Meal Requirements for the National School Lunch Program Under the Healthy, Hunger-Free Kids Act of 2010; Approval of Information Collection Request

AGENCY: Food and Nutrition Service, USDA.

ACTION: Interim final rule; approval of information collection request.

SUMMARY: The Food and Nutrition Service published an interim final rule entitled “Certification of Compliance with Meal Requirements for the National School Lunch Program under the Healthy, Hunger-Free Kids Act of 2010” on April 27, 2012. The Office of Management and Budget (OMB) cleared the associated information collection requirements (ICR) on June 20, 2012. This document announces approval of the ICR.

DATES: The ICR associated with the interim final rule published in the Federal Register on April 27, 2012 at 77 FR 25024 was approved by OMB on June 20, 2012, under OMB Control Number 0584-0567.

FOR FURTHER INFORMATION CONTACT: Requests for additional information or copies of this information collection should be directed to Jon Garcia, Program Analysis and Monitoring Branch, Child Nutrition Division, 3101 Park Center Drive, Alexandria, VA 22302.

SUPPLEMENTARY INFORMATION: The April 2012 interim final rule amended National School Lunch Program regulations to conform to requirements contained in the Healthy, Hunger-Free Kids Act of 2010 regarding performance-based cash assistance for school food authorities (SFA) certified compliant with meal patterns and nutrition standards. The interim final rule requires State agencies to certify participating SFAs that are in compliance with meal pattern and nutrition standard requirements as eligible to receive performance-based cash assistance for each reimbursable lunch served (an additional six cents per lunch available beginning October 1, 2012 and adjusted annually thereafter). This rule also requires State agencies to disburse performance-based cash assistance to certified SFAs, and withhold the performance-based cash assistance if the SFA is determined to be out of compliance with meal pattern or nutrition standards during a subsequent administrative review. Comments on the associated ICR interim final rule were accepted until June 26, 2012. This document announces OMB's approval of the ICR under OMB Control Number 0584-0567.

Dated: June 25, 2013.
Jeffrey J. Tribiano,
Acting Administrator, Food and Nutrition Service.

[FR Doc. 2013-15590 Filed 6-28-13; 8:45 am]

BILLING CODE 3410-30-P